DEPARTMENT OF HOMELAND SECURITY

Coast Guard

33 CFR Part 117

[Docket No. USCG-2013-0990]

Drawbridge Operation Regulation; Chambers Creek, Steilacoom, WA

AGENCY: Coast Guard, DHS.

ACTION: Notice of deviation from drawbridge regulation.

SUMMARY: The Coast Guard has issued a temporary deviation from the operating schedule that governs the Burlington Northern Santa Fe (BNSF) Chambers Creek Railway Bridge across Chambers Creek, mile 0.0, at Steilacoom, WA. The deviation is necessary to allow BNSF to perform maintenance and upgrade items to this vertical lift bridge in support of Positive Train Control requirements per the Rail Safety Improvement Act of 2008. This will require locking the bridge in the closed position and locking out the power to the drive system while the work is conducted. This deviation allows the bridge to remain in the closed position for 45 days during the maintenance and upgrade work.

DATES: This deviation is effective from 8 a.m. on January 6, 2014 to 5 p.m. on February 19, 2014.

ADDRESSES: The docket for this deviation, [USCG-2013-0990], is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Steven Fischer, Thirteenth District Bridge Program Administrator, Coast Guard; telephone 206-220-7282, Steven.M.Fischer3@uscg.mil. If you have questions on viewing the docket, call Barbara Hairston, Program Manager, Docket Operations, telephone 202-366-9826.

SUPPLEMENTARY INFORMATION: Burlington Northern Santa Fe (BNSF) will be performing lift bridge maintenance and upgrades for the BNSF Chambers Creek Railway Bridge across Chambers Creek, mile 0.0, near Steilacoom, WA. The bridge provides 50 feet of vertical clearance in the raised position, 10 feet of vertical clearance in the closed position and 80 feet of horizontal clearance. Reference plan is mean high water elevation of 12.2 feet. The normal operation schedule falls under 33 CFR § 117.5 which states “Except as otherwise authorized or required by this part, drawbridges must open promptly and fully for the passage of vessels when a request or signal to open is given in accordance with this subpart.”

This deviation period is effective from 8 a.m. on January 6, 2014 to 5 p.m. on February 19, 2014. The deviation is necessary for BNSF to perform maintenance and upgrade items to this vertical lift bridge including replacement of a link pin bearing in the lift system, replacing lower racks for the counterweight and conducting signal system upgrades in support of Positive Train Control requirements per the Rail Safety Improvement Act of 2008. This will require locking the bridge in the closed position and locking out the power to the drive system while the work is conducted.

Vessels able to pass through the bridge in the closed positions may do so at anytime. The bridge will not be able to open for emergencies and there is no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: December 9, 2013.
Steven M. Fischer,
Thirteenth Coast Guard District, Bridge Administrator.

[FR Doc. 2013-30219 Filed 12-18-13; 8:45 am]

BILLING CODE 9110-04-P